LIBRARY OF CONGRESS

Copyright Royalty Board

[Docket No. 2008-1 CRB CD 98-99]

Distribution of 1998 and 1999 Cable Royalty Funds

AGENCY: Copyright Royalty Board, Library of Congress

ACTION: Notice announcing commencement of Phase II distribution proceeding with request for Petitions to Participate.

SUMMARY: The Copyright Royalty Judges are announcing the commencement of a proceeding to determine the Phase II distribution of 1998 and 1999 royalties collected under the cable statutory license. The Judges also are announcing the date by which a party who wishes to participate in this distribution proceeding must file its Petition to Participate and the accompanying $150 filing fee.

DATES: Petitions to Participate and the filing fee are due on or before February 29, 2008.

ADDRESSES: An original, five copies, and an electronic copy on a CD of the Petition to Participate, along with the $150 filing fee, may be delivered to the Copyright Royalty Board by either mail or hand delivery. Petitions to Participate and the $150 filing fee may not be delivered by an overnight delivery service other than the U.S. Postal Service Express Mail. If by mail (including overnight delivery), Petitions to Participate, along with the $150 filing fee, must be addressed to: Copyright Royalty Board, P.O. Box 70977, Washington, DC 20024-0977. If hand delivered by a private party, Petitions to Participate, along with the $150 filing fee, must be brought to the Library of Congress, James Madison Memorial Building, LM-401, 101 Independence Avenue, SE., Washington, DC 20559-6000. If delivered by a commercial courier, Petitions to Participate, along with the $150 filing fee, must be delivered to the Congressional Courier Acceptance Site located at 2nd and D Street, NE., Washington, DC. The envelope must be addressed to: Copyright Royalty Board, Library of Congress, James Madison Memorial Building, LM-403, 101 Independence Avenue, SE., Washington, DC 20559-6000.

FOR FURTHER INFORMATION CONTACT: Richard Strasser, Senior Attorney, or Gina Giuffreda, Attorney Advisor, by telephone at (202) 707-7658 or e-mail at crb@loc.gov.

SUPPLEMENTARY INFORMATION:

Background

Each year, semiannually, cable systems must submit royalty payments to the Copyright Office as required by the cable statutory license for the privilege of retransmitting over-the-air television and radio broadcast stations. 17 U.S.C. 111. These royalties are then distributed to copyright owners whose works were included in such retransmissions and who timely filed a claim for royalties. Distribution of the royalties for each calendar year are conducted by the Copyright Royalty Judges (“Judges”) in two phases. At Phase I, the royalties are divided among the representatives of the major categories of copyrightable content (movies, sports programming, music, etc.) requesting the distribution. At Phase II, the royalties are divided among the various copyright owners within each category.

This Notice announcing the commencement of a proceeding under 17 U.S.C. 803(b)(1) for distribution of cable royalties collected for 1998 and 1999 is confined to Phase II. A Phase I proceeding for these royalty years was conducted by the Librarian of Congress under the Copyright Arbitration Royalty Panel (“CARP”) system, the predecessor to the Copyright Royalty Judges. The Librarian issued his determination dividing the royalties among the eight Phase I claimant groups, 69 FR 3606 (January 26, 2004), and the U.S. Court of Appeals for the District of Columbia Circuit affirmed his determination. Program Suppliers v. Librarian of Congress, 409 F.3d 395 (DC Cir. 2005). The Librarian did not, however, resolve the Phase II distribution of these royalty years and terminated the proceeding on August 10, 2007. 72 FR 45071. Consequently, it is now necessary for the Copyright Royalty Judges to resolve this Phase II distribution.¹

¹ It is important to note that this is a new proceeding before the Copyright Royalty Judges and not a transfer or continuation of a prior proceeding of the Librarian. See Section 6(b)(1) of the Copyright Royalty and Distribution Reform Act of 2004, Pub. L. No. 108-419 (any CARP proceeding terminated by the Librarian “shall become null and void”).

Commencement of Phase II Proceeding

Consistent with 17 U.S.C. 804(b)(8), the Copyright Royalty Judges determine that a Phase II controversy exists as to the distribution of 1998 and 1999 cable royalties. We reach this determination, in this instance, for several reasons. First, we observe that certain interested parties represented to the Librarian some time ago that several Phase II controversies exist for these years. Second, the Program Suppliers have recently represented to us that a Phase II controversy with the National Association of Broadcasters remains for these years. Comments of the Program Suppliers on the Existence of a Controversy, at 5, n. 3 (filed in Docket No. 2005-4 CRB CD 2003 on September 19, 2007). And third, we have not received notification that any settlements have been reached, nor have we received motions for final distribution.

The Judges are consolidating the 1998 and 1999 royalty years into a single proceeding. The Librarian consolidated these years for purposes of the Phase I proceeding without incident, and Phase II proceedings are traditionally less extensive and complicated, thereby making consolidation of multiple royalty years more administratively efficient.

Petitions To Participate

Petitions to Participate must be filed in accordance with the § 351.1(b) of the Judge's regulations. See 37 CFR 351.1(b). Petitions to Participate submitted by interested parties whose claims do not exceed $1,000 must contain a statement that the party will not seek a distribution of more than $1,000. No filing fee is required for these parties. We note, however, that interested parties with claims exceeding one thousand dollars ($1,000) must submit a filing fee of one hundred and fifty dollars ($150) with their Petition to Participate or it will be rejected. Cash will not be accepted; therefore, parties must pay the filing fee with a check or money order made payable to the “Copyright Royalty Board.” If a check received in payment of the filing fee is returned for lack of sufficient funds, the corresponding Petition to Participate will be dismissed.

Further procedural matters, including scheduling, will be addressed after Petitions to Participate have been received.

Note that in accordance with 37 CFR 350.2 (Representation), only attorneys who are members of the bar in one or more states and in good standing will be allowed to represent parties before the Copyright Royalty Judges, unless the party is an individual who represents herself or himself.

Dated: January 24, 2008.
James Scott Sledge,
Chief Copyright Royalty Judge.

[FR Doc. E8-1672 Filed 1-29-08; 8:45 am]

BILLING CODE 1410-72-P